DEPARTMENT OF TRANSPORTATION

Surface Transportation Board

[STB Finance Docket No. 34345]

The Burlington Northern and Santa Fe Railway Company—Trackage Rights Exemption—Union Pacific Railroad Company

Union Pacific Railroad Company (UP) has agreed to grant limited overhead trackage rights to The Burlington Northern and Santa Fe Railway Company (BNSF)¹ over UP lines between Port Chicago, CA, at milepost 41.3 on UP's Tracy Subdivision, and Stege, CA, at milepost 9.3 on UP's Martinez Subdivision, a distance of approximately 28.7 miles—6.3 on the Tracy Subdivision and 22.4 miles on the Martinez Subdivision.

¹ On May 6, 2003, BNSF filed a petition for termination of this trackage rights exemption in Burlington Northern and Santa Fe Railway Company-Trackage Rights Exemption-Union Pacific Railroad Company, STB Finance Docket No. 34345 (Sub-No. 1), wherein BNSF requests that the Board permit the proposed overhead trackage rights arrangement described in the present proceeding to expire on or about May 22, 2003. That petition will be addressed by the Board in a separate decision.

The transaction was scheduled to be consummated on May 2, 2003. The purpose of the trackage rights is to allow BNSF to bridge its train service while BNSF's main line is out of service due to maintenance.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the transaction.

An original and 10 copies of all pleadings, referring to STB Finance Docket No. 34345, must be filed with the Surface Transportation Board, 1925 K Street, NW., Washington, DC 20423-0001. In addition, a copy of each pleading must be served on Michael E. Roper, 2500 Lou Menk Drive, PO Box 961039, Fort Worth, TX 76161-0039.

Board decisions and notices are available on our website at “www.stb.dot.gov.”

By the Board, David M. Konschnik, Director, Office of Proceedings.
Decided: May 7, 2003.
Vernon A. Williams,
Secretary.

[FR Doc. 03-12000 Filed 5-14-03; 8:45 am]

BILLING CODE 4915-00-P